DEPARTMENT OF COMMERCE

Bureau of Industry and Security

15 CFR Part 740

[Docket No. 240917-0241]

RIN 0694-AJ89

Updated License Exception Implemented Export Controls (IEC) Eligible Items and Destinations

AGENCY: Bureau of Industry and Security, Department of Commerce.

ACTION: Final rule.

SUMMARY: This rule revises the version date for the License Exception Implemented Export Controls (IEC) table posted on the Bureau of Industry and Security (BIS) website and replaces the long URL address for the table to a shorter and simpler URL address. BIS posted an updated table on September 17, 2024, that updated the eligible countries for License Exception IEC by adding Denmark, Finland, and Japan to appropriate items in the table.

DATES: This rule is effective October 16, 2024. The incorporation by reference of certain material listed in the rule is approved by the Director of the Federal Register as of October 16, 2024.

FOR FURTHER INFORMATION CONTACT: Office of National Security Controls, phone: 202-482-0092; email: LicenseExceptionIEC@bis.doc.

SUPPLEMENTARY INFORMATION:

Background

On August 27, 2024, the Office of the Federal Register approved an Incorporation By Reference (IBR) request submitted by BIS to post a table entitled “License Exception Implemented Export Controls (IEC) eligible items and destinations” on BIS' website. The table includes items and countries eligible for License Exception IEC, see § 740.24 of the EAR.

On September 5, 2024, BIS posted on its website updates to that table. The updates included changing the last modified date from “August 27, 2024” to “September 5, 2024”; changing the eligibility date for all the rows from “August 27, 2024” to “September 6, 2024” (which was the date of publication for the rule entitled “Commerce Control List Additions and Revisions; Implementation of Controls on Advanced Technologies Consistent with Controls Implemented by International Partners,” RIN 0694-AJ60 (89 FR 72926)); and correcting the misspelling of “eligibility” in the table title.

On September 17, 2024, BIS posted on its website an update to the table that added Denmark, Finland to the table, and modified the entries for Japan on the table for appropriate item eligibility to match the implementation by these countries.

Finally, this rule revises paragraph (c) of § 740.24 by revising the last modified date to September 17, 2024, and changing the URL to a simpler address of www.bis.gov/IEC.

Export Control Reform Act of 2018

On August 13, 2018, the President signed into law the John S. McCain National Defense Authorization Act for Fiscal Year 2019, which included the Export Control Reform Act of 2018 (ECRA) (codified, as amended, at 50 U.S.C. 4801-4852). ECRA provides the legal basis for BIS's principal authorities and serves as the authority under which BIS issues this rule. In particular, and as noted elsewhere, Section 1753 of ECRA (50 U.S.C. 4812) authorizes the regulation of exports, reexports, and transfers (in-country) of items subject to U.S. jurisdiction. Further, Section 1754(a)(1)-(16) of ECRA (50 U.S.C. 4813(a)(1)-(16)) authorizes, inter alia, the establishment of a list of controlled items; the prohibition of unauthorized exports, reexports, and transfers (in-country) of controlled items; the requirement of licenses or other authorizations for exports, reexports, and transfers (in-country) of controlled items; apprising the public of changes in policy, regulations, and procedures; and any other action necessary to carry out ECRA that is not otherwise prohibited by law. Pursuant to Section 1762(a) of ECRA (50 U.S.C. 4821(a)), these changes can be imposed in a final rule without prior notice and comment.

Rulemaking Requirements

1. Executive Orders 12866, 13563, and 14094 direct agencies to assess all costs and benefits of available regulatory alternatives and, if regulation is necessary, to select regulatory approaches that maximize net benefits (including potential economic, environmental, public health and safety effects and distributive impacts and equity). Executive Order 13563 emphasizes the importance of quantifying both costs and benefits and of reducing costs, harmonizing rules, and promoting flexibility. This final rule has not been designated a significant regulatory action under section 3(f) of Executive Order 12866, as amended by Executive Order 14094.

2. Notwithstanding any other provision of law, no person is required to respond to, nor shall any person be subject to a penalty for failure to comply with, a collection of information subject to the requirements of the Paperwork Reduction Act of 1995 (44 U.S.C. 3501 et seq.) (PRA), unless that collection of information displays a currently valid Office of Management and Budget (OMB) Control Number. Although this rule makes important changes to the EAR for items controlled for national security reasons, the overall decreases in burdens and costs associated with the following information collections due to this rule are estimated to decrease the number of submissions by 50, which will not require revision of the current approved estimated time burdens for completing related submissions described below.

• 0694-0088, “Simplified Network Application Processing System,” which carries a burden- hour estimate of 29.6 minutes for a manual or electronic submission;

• 0694-0137 “License Exceptions and Exclusions,” which carries a burden-hour estimate average of 1.5 hours per submission (Note: submissions for License Exceptions are rarely required);

• 0694-0096 “Five Year Records Retention Period,” which carries a burden-hour estimate of less than 1 minute; and

• 0607-0152 “Automated Export System (AES) Program,” which carries a burden-hour estimate of 3 minutes per electronic submission.

Additional information regarding these collections of information—including all background materials—can be found at https://www.reginfo.gov/public/do/PRAMain and using the search function to enter either the title of the collection or the OMB Control Number.

3. This rule does not contain policies with federalism implications as that term is defined in Executive Order 13132.

4. Pursuant to section 1762 of ECRA (50 U.S.C. 4821), this action is exempt from the Administrative Procedure Act (APA) (5 U.S.C. 553) requirements for notice of proposed rulemaking, opportunity for public participation and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects for 15 CFR Parts 740

Administrative practice and procedure, Exports, Incorporation by reference, Reporting and recordkeeping.

Accordingly, part 740 of the Export Administration Regulations (15 CFR parts 730 through 774) is amended as follows:

PART 740—LICENSE EXCEPTIONS

1. The authority citation for part 740 continues to read as follows:

Authority: 50 U.S.C. 4801-4852; 50 U.S.C. 4601 et seq.; 50 U.S.C. 1701 et seq.; 22 U.S.C. 7201 et seq.; E.O. 13026, 61 FR 58767, 3 CFR, 1996 Comp., p. 228; E.O. 13222, 66 FR 44025, 3 CFR, 2001 Comp., p. 783.

2. Section 740.24 is amended by revising paragraph (c) to read as follows:

§ 740.24 Implemented Export Controls (IEC).

* * * * *

(c) Incorporation by reference. License Exception Implemented Export Controls (IEC) Eligible Items and Destinations, last modified September 17, 2024, is incorporated by reference into this section with the approval of the Director of the Federal Register under 5 U.S.C. 552(a) and 1 CFR part 51. This material is available for inspection at the BIS and at the National Archives and Records Administration (NARA). Contact BIS at: BIS Office of National Security Controls, phone: 202-482-0092; email: LicenseExceptionIEC@bis.doc; website: www.bis.gov. For information on the availability of this material at NARA, visit www.archives.gov/federal-register/cfr/ibr-locations or email fr.inspection@nara.gov. The material may be obtained from BIS and is available for inspection on the BIS website at www.bis.gov/IEC.

Thea D. Rozman Kendler,
Assistant Secretary for Export Administration.

[FR Doc. 2024-23814 Filed 10-15-24; 8:45 am]

BILLING CODE 3510-33-P